FEDERAL MARITIME COMMISSION

Ocean Transportation Intermediary License Rescission of Order of Revocation

Notice is hereby given that the Order revoking the following license is being rescinded by the Federal Maritime Commission pursuant to section 19 of the Shipping Act of 1984 (46 U.S.C. app. 1718) and the regulations of the Commission pertaining to the licensing of Ocean Transportation Intermediaries, 46 CFR part 515.

License Number: 015795N.

Name: Eurocargo Express, LLC dba Eurocargo Express.

Address: 5250 West Century Blvd., Suite 620, Los Angeles, CA 90045.

Order Published: FR: 02/23/06 (Volume 71, No. 36, Pg. 9342).

Peter J. King,
Deputy Director, Bureau of Certification and Licensing.

[FR Doc. E6-4578 Filed 3-28-06; 8:45 am]

BILLING CODE 6730-01-P